DEPARTMENT OF ENERGY

Federal Energy Regulatory Commission

[Docket No. RP00-336-008]

El Paso Natural Gas Company; Notice of Compliance Filing

January 15, 2003.

Take notice that on January 10, 2003, El Paso Natural Gas Company (El Paso) tendered for filing as part of its FERC Gas Tariff, First Revised Volume No. 1A, the tariff sheets listed in Appendices A and B to the filing with an effective date of November 1, 2002.

El Paso states that the tariff sheets are being filed in compliance with the Commission's December 26, 2002 order in this proceeding. Additionally, El Paso is filing pursuant to section 154.206 of the Commission's Regulations under the Natural Gas Act a motion to place into effect on November 1, 2002, the rates and tariff provisions accepted by the Commission's December 26 Order in this proceeding.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: January 23, 2003.

Magalie R. Salas,
Secretary.

[FR Doc. 03-1730 Filed 1-24-03; 8:45 am]

BILLING CODE 6717-01-P